DEPARTMENT OF COMMERCE

Bureau of Industry and Security

Action Affecting Export Privileges; Arif Ali Durrani; In the Matter of: Arif Ali Durrani, Registration #09027-014, Victorville Medium I, Federal Correctional Institute, P.O. Box 5300, Adelanto, CA 92301

Order Denying Export Privileges

A. Denial of Export Privileges of Arif Ali Durrani

On June 5, 2005, in the U.S. District Court in the Southern District of California, Arif Ali Durrani (“Durrani”) was found guilty of four counts of violating Section 38 of the Arms Export Control Act (22 U.S.C. 2778 (2000)) (“AECA”). Specifically, the Court found that Durrani knowingly and willfully exported from the United States to Malaysia and Belgium controlled military aircraft parts which were designated as defense articles on the United States Munitions List, without having first obtained a license from the Department of State for such export, or written authorization for such an export. In addition, Durrani was also found guilty on one count of conspiracy. Durrani was sentenced to 150 months imprisonment followed by three years of supervised released.

Section 11(h) of the Export Administration Act of 1979, as amended (currently codified at 50 U.S.C. app. 2401-2420 (2000)) (“Act”) ¹ and § 766.25 of the Export Administration Regulations ² (“Regulations”) provide, in pertinent part, that “[t]he Director of Exporter Services, in consultation with the Director of the Office of Export Enforcement, may deny export privileges of any person who has been convicted of a violation of * * * Section 38 of the Arms Export Control Act,” for a period not to exceed 10 years from the date of conviction. 15 CFR 766.25(a) and (d). In addition, § 750.8 of the Regulations states that BIS's Office of Exporter Services may revoke any BIS licenses previously issued in which the person had an interest at the time of his conviction.

¹ Since August 21, 2001, the Act has been in lapse and the President, through Executive Order 13222 of August 17, 2001 (3 CFR, 2001 Comp. 783 (2002)), as extended by the Notice of August 3, 2006 (71 FR 44551, August 7, 2006), has continued the Regulations in effect under the International Emergency Economic Powers Act (50 U.S.C. 1701-1706 (2000)) (“IEEPA”).

² The Regulations are currently codified at 15 CFR parts 730-774 (2007).

I have received notice of Durrani's conviction for violating the AECA, and have provided notice and an opportunity for Durrani to make a written submission to the Bureau of Industry and Security as provided in § 766.25 of the Regulations. Having received no submission from Durrani, I, following consultations with the Office of Export Enforcement, including its Director, have decided to deny Durrani's export privileges under the Regulations for a period of ten years from the date of Durrani's conviction.

Accordingly, it is hereby Ordered:

I. Until June 5, 2015, Arif Ali Durrani, Registration #09027-014, Victorville Medium I, Federal Correctional Institute, P.O. Box 5300, Adelanto, CA 92301, and when acting for or on behalf of Durrani, his representatives, assigns, agents, or employees, (collectively referred to hereinafter as the “Denied Person”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

III. After notice and opportunity for comment as provided in section 766.203 of the Regulations, any other person, firm, corporation, or business organization related to ARIF Ali Durrani by affiliation, ownership, control, or position of responsibility in the conduct of trade or related services may also be made subject to the provisions or this Order.

IV. This Order does not prohibit any export, reexport, or other transaction subject to the Regulations where the only items involved that are subject to the Regulations are the foreign-produced direct product of U.S.-origin technology.

V. This Order is effective immediately and shall remain in effect until June 5, 2015.

VI. In accordance with Part 756 of the Regulations, Durrani may file an appeal of this Order with the Under Secretary of Commerce for Industry and Security. The appeal must be filed within 45 days from the date of this Order and must comply with the provisions of Part 756 of the Regulations.

VII. A copy of this Order shall be delivered to Durrani. This Order shall be published in the Federal Register.

Dated: June 9, 2007.
Eileen M. Albanese,
Director, Office of Exporter Services.

[FR Doc. 07-2981 Filed 6-15-07; 8:45 am]

BILLING CODE 3510-DT-M